DEPARTMENT OF ENERGY

Federal Energy Regulatory Commission

[Docket No. RP03-468-000]

Midwestern Gas Transmission Company; Notice of Proposed Changes in FERC Gas Tariff

May 7, 2003.

Take notice that on May 2, 2003, Midwestern Gas Transmission Company (Midwestern) tendered for filing to become part its FERC Gas Tariff, Third Revised Volume No. 1, the following tariff sheets to become effective on June 1, 2003:

Fourth Revised Sheet Number 201

Second Revised Sheet Number 270

Midwestern states that it is filing revised tariff sheets to allow Rate Schedule FT-A Shippers entering into a new transportation agreement, or extensions of the initial term of their transportation agreement, the right to reduce their Transportation Quantity under specified circumstances as proposed in section 26 of the General Terms and Conditions of Midwestern's FERC Gas Tariff.

Midwestern states that copies of this filing have been sent to all of Midwestern's contracted shippers and interested State regulatory commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 14, 2003.

Magalie R. Salas,
Secretary.

[FR Doc. 03-11939 Filed 5-12-03; 8:45 am]

BILLING CODE 6717-01-P